DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action By Trade Adjustment Assistance for Period May 17, 2002-June 19, 2002
Firm name | Address | Date petition accepted | Product
MJM International, Inc | 2003 North I Road, San Juan, TX 78589 | 05/28/02 | Medical furniture of PVC pipes and fabric.
Compton Wood Products, Inc | 901Holley Drive, Martinsville, VA 24112 | 05/28/02 | Furniture frames, moldings, panel doors, drawer slides, tables, etc. of wood.
Unico Foods, Inc | 13006 Darrington Road, El Paso, Texas 79928 | 05/28/02 | Chorizo.
Inland Tool & Manufacturing Co | 630 South 5th Street, Kansas City, KS 66105 | 05/28/02 | Industrial tooling and die fabrication.
Austro Mold, Inc | 3 Rutter Street, Rochester, NY 14606 | 05/28/02 | Injection or compression type molds for rubber or plastic for the manufacture of semiconductor devices.
Co-planar, Inc | 100 Round Hill Drive, Rockaway, NJ 07866 | 06/30/02 | Metal lead frames, auto connectors and contacts and electric razor metal parts.
Catskill Craftsmen, Inc | 15 West End Avenue, Stamford, NY 12167 | 06/12/02 | Kitchen workstations of wood.
R. J. Zeman Tool & Mfg. Co | W228 N575 W. Mound Dr., Waukesha, WI 53186 | 06/13/02 | Machined metal molds for injection molding of plastic and die casting of metal.
Circuits Engineering, Inc | 1832 180th Street SE, Bothell, WA 98012 | 06/13/02 | Printed circuit boards.
Douglas & Harper Manufacturing Co., Inc | 1126 South Main Street, Baxley, GA 31515 | 06/13/02 | Textile based health care items, i.e. moist heat packs, halter traction devices, padded toilet seat risers, sanitary belts, lumbar support belts, etc.
Sussex Wire, Inc | 4 Danforth Drive, Easton, PA 18045 | 06/14/02 | Wire leads used in the semiconductor industry.
IKKA Technology, Inc | 5 Barber, Industrial Court, Villa Rica, GA 30180 | 06/14/02 | Video cassette cases.
Plas-Tech Engineering, Inc | 281 E. Sheridan, Springs Rd., Lake Geneva, WI 53147 | 06/19/02 | Injection molded plastic components for non-electric medical instruments.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: June 21, 2002.
Anthony J. Meyer,
Coordinator, Trade Adjustment and Technical Assistance.

[FR Doc. 02-16229 Filed 6-26-02; 8:45 am]

BILLING CODE 3510-24-P